DEPARTMENT OF THE INTERIOR

National Park Service

[N6422; NPS-WASO-NAGPRA-NPS0040828; PPWOCRADN0-PCU00RP14.R50000]

Notice of Intended Disposition: U.S. Department of the Interior, National Park Service, Casa Grande Ruins National Monument, Coolidge, AZ

AGENCY: National Park Service, Interior.

ACTION: Notice.

SUMMARY: In accordance with the Native American Graves Protection and Repatriation Act (NAGPRA), the U.S. Department of the Interior, National Park Service, Casa Grande Ruins National Monument (CAGR) intends to carry out the disposition of human remains and associated funerary objects removed from Federal or Tribal lands to the lineal descendants, Indian Tribe, or Native Hawaiian organization with priority for disposition in this notice.

DATES: Disposition of the human remains and associated funerary objects in this notice may occur on or after September 15, 2025. If no claim for disposition is received by August 14, 2026, the human remains and associated funerary objects in this notice will become unclaimed human remains and associated funerary objects.

ADDRESSES: Send written claims for disposition of the human remains and associated funerary objects to Christopher Combel, Acting Superintendent, Casa Grande Ruins National Monument, 1101 W Ruins Drive, Coolidge, AZ 85128, email christopher_combel@nps.gov.

SUPPLEMENTARY INFORMATION: This notice is published as part of the National Park Service's administrative responsibilities under NAGPRA. The determinations in this notice are the sole responsibility of the Acting Superintendent, Casa Grande Ruins National Monument, and additional information on the human remains and associated funerary objects in this notice, including the results of consultation, can be found in the related records.

Abstract of Information Available

Based on the information available, human remains representing, at least, one individual have been reasonably identified. The one lot of associated funerary objects are primarily pottery sherds, both burnt and unburnt, as well as faunal remains. These ancestral remains and associated funerary objects have not been itemized out of respect to them and a desire to disturb them as little as possible. On May 2, 2025, CAGR staff was performing historic preservation on Compound A (AZ AA:02:14) by removing previous layers of historic concrete treatments from the western wall of Room 31 in Pinal County, Arizona. In between two layers of concrete, there was a four-inch layer of loose dirt, and the cremated ancestral remains were located there.

Determinations

CAGR has determined that:

• The human remains described in this notice represent the physical remains of at least one individual of Native American ancestry.

• The one lot of objects described in this notice are reasonably believed to have been placed intentionally with or near human remains, and are connected, either at the time of death or later as part of the death rite or ceremony.

• The Gila River Indian Community of the Gila River Indian Reservation, Arizona has priority for disposition of the human remains and associated funerary objects described in this notice.

Claims for Disposition

Written claims for disposition of the human remains and associated funerary objects in this notice must be sent to the appropriate official identified in this notice under ADDRESSES. If no claim for disposition is received by August 14, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after September 15, 2025. If competing claims for disposition are received, CAGR must determine the most appropriate claimant prior to disposition. Requests for joint disposition of the human remains and associated funerary objects are considered a single request and not competing requests. CAGR is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: August 5, 2025.
Melanie O'Brien,
Manager, National NAGPRA Program.

[FR Doc. 2025-15413 Filed 8-13-25; 8:45 am]

BILLING CODE 4312-52-P